DEPARTMENT OF TRANSPORTATION

Federal Aviation Administration

FAA Approval of Noise Compatibility Program and Determination on Noise Exposure Maps; Orlando Sanford International Airport, Sanford, Florida

AGENCY: Federal Aviation Administration.

ACTION: Notice.

SUMMARY: The Federal Aviation Administration (FAA) announces its findings on the noise compatibility program submitted by Sanford Airport Authority under the provisions of 49 U.S.C. 47501 et. seq. (the Aviation Safety and Noise Abatement Act, hereinafter referred to as “the Act”) and 14 CFR part 150. These findings are made in recognition of the description of Federal and non-federal responsibility in Senate Report No. 96-52 (1980). On October 21, 2002, the FAA Approved the Orlando Sanford International Airport noise compatibility program. Most of the recommendations of the program were approved. The FAA also is announcing its determination that the noise exposure maps for Orlando Sanford International Airport for the years 2001 and 2006 and associated documentation, submitted with the noise compatibility program, are in compliance with applicable requirements of FAR Part 150 effective April 24, 2002.

EFFECTIVE DATE: The effective date of the FAA's approval of the Orlando Sanford International Airport Noise Compatibility Program is October 21, 2002.

FOR FURTHER INFORMATION CONTACT: Bonnie L. Baskin, Federal Aviation Administration, Orlando Airports District Office, 5950 Hazeltine National Dr., Suite 400, Orlando, Florida 32882, (407) 812-6331, Extension 30. Documents reflecting this FAA action may be reviewed at this same location.

SUPPLEMENTARY INFORMATION: This notice announces that the FAA has given its overall approval to the Noise Compatibility Program for Orlando Sanford International Airport, effective October 21, 2002, and that the noise exposure maps for this same airport are determined to be in compliance with applicable requirements of FAR Part 150.

Noise Exposure Maps: Under 49 U.S.C. section 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport.

The FAA completed its review of the noise exposure maps and accompanying documentation submitted by Sanford Airport Authority for Orlando Sanford International Airport. The documentation that constitutes the “noise exposure maps” as defined in section 150.7 of Part 150 includes: Exhibit 7-1, “2001 DNL Noise Contours”, Exhibit 10-2, “2006 DNL Noise Contours-Inclusive of All Operational Controls (With Future Land Use)”, Tables 6-2 through 6-4, Baseline Operations, Tables 6-6 through 6-8, Forecast Operations, Table 6-11, Time of Day Operations, Exhibits 6-3 through 6-5, Arrival, Departure, and Training Tracks, and Exhibit 9-5, Helicopter Routes. The airport operator certified on December 28, 2001, that the 2001 and 2006 noise exposure map contours and accompanying documents are true and complete and that consultation required by section 150.21 was accomplished (page 8-1 of documentation). The FAA has determined that these noise exposure maps and accompanying documentation are in compliance with applicable requirements. This determination was effective on April 24, 2002. FAA's determination on an airport operator's noise exposure maps is limited to a finding that the noise exposure maps were developed in accordance with the procedures contained in Appendix A of FAR Part 150. Such determination does not constitute approval of the applicant's data, information or plans, nor is it a commitment to approve a noise compatibility program or to fund the implementation of that program.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

Noise Compatibility Program: Each airport noise compatibility program developed in accordance with Federal Aviation Regulations (FAR) Part 150 is a local program. The FAA does not substitute its judgment for that of the airport proprietor with respect to which measures should be recommended for action. The FAA's approval or disapproval of FAR Part 150 program recommendations is measured according to the standards expressed in Part 150 and the Act and is limited to the following determinations.

1. The noise compatibility program was developed in accordance with the provisions and procedures of FAR Part 150;

2. Program measures are reasonably consistent with achieving the goals of reducing existing non-compatible land uses around the airport and preventing the introduction of additional non-compatible land uses;

3. Program measures would not create an undue burden on interstate or foreign commerce, unjustly discriminate against types or classes of aeronautical uses, violate the terms of airport grant agreements, or intrude into areas preempted by the Federal Government; and

4. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Airports District Office in Orlando, Florida.

The Orlando Sanford International Airport study contains a proposed noise compatibility program comprised of actions designed for phased implementation by airport management and adjacent jurisdictions from the date of study completion beyond the year 2006. It was requested that the FAA evaluate and approve this material as a noise compatibility program as described in section 47504(b) of the Act. The FAA began its review of the program on April 24, 2002, and was required by a provision of the Act to approve or disapprove the program within 180 days (other than the use of new flight procedures for noise control). Failure to approve or disapprove such program within the 180-day period shall be deemed to be an approval of such program.

The submittal program contained nineteen (19) proposed actions for noise mitigation on and off the airport. The FAA completed its review and determined that the procedural and substantive requirements of the Act and FAR Part 150 have been satisfied. The overall program, therefore, was approved by the Associate Administrator effective October 21, 2002.

Outright approval was granted for seventeen (17) specific program elements. One (1) element was disapproved for the purposes of Part 150, and one (1) element required no action at this time as the measure relates to flight procedures under section 47504(b) of the Aviation Safety and Noise Abatement Act. Additional review by the FAA is necessary. The FAA approved as voluntary the following flight procedures: (1) Maximize east flow at the airport between the hours of 6 a.m. and 11 p.m. (2) When the airport has a 24-hour control tower, between the hours of 11 p.m. to 6 a.m. maximize departures to the east and arrivals from the east (when air traffic conditions and weather permit); (3) For jet aircraft departures on Runway 9L, establish a departure turn that would direct northbound aircraft to turn to the northeast, as soon as possible after lift-off; (4) For jet departures to northern destinations on Runway 27R, establish a northwesterly turn approximately three miles west of the beginning of take-off roll on Runway 27R (a turn immediately west of US 17/92). (5) Maintain the current “close-in” procedure for jet aircraft departures on Runway 27R and implement the “distant” departure procedure for jet aircraft departures on Runway 9L; (6) During west flow (east flow is the preferred configuration at SFB), some aircraft are held at 2,000 feet in altitude to provide separation from crossing aircraft. Recent changes have been made to hold departing air carrier aircraft from SFB at the Runway 27R threshold. These aircraft are held until there is sufficient space to release the aircraft to depart without the 2,000-foot hold altitude restriction. Further improvements to this procedure should be pursued to allow more aircraft to have an unrestricted climb west out of SFB; and (7) A recommendation that departing helicopters ascend to and maintain 500 feet close to the airport, arriving helicopters maintain and descend from 500 feet close to the airport, having helicopters overfly roadways (in non-emergency situations) and maintain the highest altitude possible in the immediate vicinity of the airport.

The Flight procedure that was deferred pending FAA review is: For jet aircraft conducting ILS flight training on Runway 9L-27R direct aircraft to continue along the runway heading to gain altitude beyond the airport boundaries prior to making northerly turns. And the measure disapproved by the FAA for purposes of part 150 is the planned extension of Runway 9R-27L, which is included in the airport's master plan to enhance capacity. Although the airport proposes to design the extension on Runway 9R-27L to reduce noise impacts, its primary benefit is capacity.

Other measures approved by the FAA included: Evaluate the benefits of a noise fence (solid barrier) of sufficient height and length that noise during run-up activity would be directed up or reflected away from residences. The Sanford Airport Authority should also investigate the benefit of hush house options that would result in reduced noise exposure to close-in communities. Acquire three portable noise monitoring systems to be used in conducting short term monitoring in communities around the airport, in response to requests for short-term monitoring. It also will assist the SANAC and Authority in their efforts to provide information to the public and consider additional noise abatement measures. FAA's decision noted that monitoring equipment may not be used for enforcement purposes of aircraft in flight by in situ measurement of any present noise thresholds, for reasons of aviation safety.

FAA approved 8 land use measures, including: (1) Comprehensive Plans for both the City and the County should specifically identify that no new residential uses should be allowed in the 60 DNL contour; (2) The Land Development Codes for both the City and County should identify that no new residential uses should be allowed in the 60 DNL; (3) Due to the planned southerly extension to Runway 18-36 and the amount of aircraft touch-and-go training activity south and east of the airport, it is preferred that no new residential uses be allowed east or south of the airport's new runway system to the Conservation area adjacent to Lake Jessup. If, due to other reasons, residential use must be permitted, no mobile homes or home ownership should be permitted; (4) No new public educational facilities should be allowed in areas east and south of the Airport, within the limits described in (3) Above; (5) If a restriction on all future residential uses can not be implemented for the entire area south and east of the airport, then, it is recommended that notification of noise exposure and overflight activity be required in the form of avigation easements for all new residential development in this area. FAA noted in its decision that FAA's policy published in 1998 (63 FR 16409) states that no Federal funding will be made available for mitigation of future noncompatible development on currently undeveloped land if it is located within the airport's published NEM contours; (6) One option for implementing additional limitations on residential use and requirements for avigation easements is through the use of overlay zoning. The overlay zone could include the property south of SR 46 and east of the currently zoned industrial areas located south of Runway 18-36 (east of Brisson Avenue South) to the Lake Jessup Conservation area. The overlay zone would allow permitted uses and development approval procedures instituted by the City and County but would identify additional residential use limitations and avigation requirements associated with the overlay zone. The FAA reiterated in 1998 policy in its decision here; (7) Airport staff should be notified of requests for modifications and related hearing dates for applications for planning and zoning modifications (comprehensive plan changes, land development code changes, site plan approval requests, rezoning, subdivision applications, etc.). An individual at the County, the City and the Airport staff should designated with the responsibility for this coordination; and (8) The airport proposes to offer to acquire incompatible property located in whole or in part within the DNL 65 dB noise contour of the official NEM's. The majority of the property would be east of the airport, although a few parcels are to the west and north within the DNL 65 dB noise contour. FAA stated in its decision that acquisitions are limited to existing non-compatible land uses located within the 65 DNL noise contour of the official NEM's, specifically “2001 DNL Noise Contours”, and consistent with FAA's 1998 remedial mitigation policy (63 FR 16409).

These determinations are set forth in detail in a Record of Approval signed by the Associate Administrator on October 21, 2002.

Copies of the noise exposure maps and of the FAA's evaluation of the maps, and copies of the record of approval and other evaluation materials and the documents comprising the submittal to the FAA are available at the FAA office listed above and at the administrative office of the Sanford Airport Authority. Questions on either of these FAA determinations may be directed to the individual named above under the heading FOR FURTHER INFORMATION CONTACT.

Issued in Orlando, Florida on November 7, 2002.
W. Dean Stringer,
Manager, Orlando Airports District Office.

[FR Doc. 02-29455 Filed 11-20-02; 8:45 am]

BILLING CODE 4910-13-M